ENVIRONMENTAL PROTECTION AGENCY

40 CFR Part 52

[EPA-R09-OAR-2024-0199; FRL-12188-01-R9]

Air Quality Plans; Arizona; Maricopa County Air Quality Department; Source-Specific SIP Revision

AGENCY: Environmental Protection Agency (EPA).

ACTION: Proposed rule.

SUMMARY: The Environmental Protection Agency (EPA) is proposing approval of a source-specific revision to the Maricopa County Air Quality Department's (MCAQD or “Department”) portion of the Arizona State Implementation Plan (SIP). This revision consists of certain permit conditions related to emissions offsets generated from the replacement of existing diesel-fueled solid waste collection trucks promulgated by the MCAQD and submitted by the State of Arizona for inclusion in the Maricopa County portion of the Arizona SIP under the Clean Air Act (CAA or “Act”). The permit conditions have been submitted for SIP approval to ensure that they are federally enforceable, which is the basis for qualifying certain emissions reductions as creditable offsets under the CAA. We are taking comments on this proposal and plan to follow with a final action.

DATES: Comments must be received on or before September 18, 2024.

ADDRESSES: Submit your comments, identified by Docket ID No. EPA-R09-OAR-2024-0199 at https://www.regulations.gov. For comments submitted at Regulations.gov, follow the online instructions for submitting comments. Once submitted, comments cannot be edited or removed from Regulations.gov. The EPA may publish any comment received to its public docket. Do not submit electronically any information you consider to be Confidential Business Information (CBI) or other information the disclosure of which is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www.epa.gov/dockets/commenting-epa-dockets. If you need assistance in a language other than English or if you are a person with disabilities who needs a reasonable accommodation at no cost to you, please contact the person identified in the FOR FURTHER INFORMATION CONTACT section.

FOR FURTHER INFORMATION CONTACT: Christa Cichoski, EPA Region IX, 75 Hawthorne St., San Francisco, CA 94105; by phone: (415) 972-3930; or by email to cichoski.christa@epa.gov.

SUPPLEMENTARY INFORMATION: Throughout this document, “we,” “us,” and “our” refer to the EPA.

Table of Contents

I. The State's Submittal

A. What SIP revision did the State submit?

B. What is the purpose of the submitted source-specific SIP revision?

II. The EPA's Evaluation and Action

A. What is the background for this proposal?

B. How is the EPA evaluating the source-specific SIP revision?

C. Does the source-specific SIP revision meet the evaluation criteria?

D. Proposed Action and Public Comment

III. Incorporation by Reference

IV. Statutory and Executive Order Reviews

I. The State's Submittal

A. What SIP revision did the State submit?

On August 3, 2022, the Arizona Department of Environmental Quality (ADEQ) submitted three source-specific SIP revisions on behalf of the MCAQD. The SIP revisions consist of portions of the following three operating permits: Facility ID F001645 was issued P0008308, Facility ID F001646 was issued P0008309, and Facility ID F000443 was issued P0008316. On February 3, 2023, the SIP submittal was deemed complete by operation of law. On April 3, 2024, via a letter dated March 29, 2024,¹ the ADEQ submitted corrected copies of these same permit conditions to correct minor typographical errors. The permits are now numbered: P0011602, P0011603, P0011601, respectively.

¹ We note that the Maricopa County letter to ADEQ is dated April 1, 2024, which is after the March 29, 2024 date of the ADEQ letter. The MCAQD has clarified that their letter contained a typographical error and should have been dated March 29, 2024. See email dated June 20, 2024, from Kimberly Butler (MCAQD) to Laura Yannayon (EPA Region 9), which documents this clarification. A copy is provided in the docket for this action.

B. What is the purpose of the submitted source-specific SIP revision?

The submitted permit conditions ensure that emission reduction credits granted to Waste Management of Arizona, Inc. (Waste Management) for replacing existing diesel-fired solid waste collection trucks with compressed natural gas (CNG)-fired solid waste collection trucks meet the offset integrity criteria contained in 40 CFR part 51.165(a)(3)(ii)(C)(1)(i), which requires such emission reductions to be surplus, permanent, quantifiable, and federally enforceable. Approval of these portions of the permits into the Maricopa portion of the Arizona SIP will provide the necessary federal enforceability for these permit conditions.

II. The EPA's Evaluation and Action

A. What is the background for this proposal?

Waste Management replaced 225 diesel-fueled solid waste collection trucks with 225 CNG-fueled solid waste collection trucks, which reduced annual emissions of NOX from the four collection fleets based at three transfer stations within the Maricopa County ozone nonattainment area.

On July 8, 2021, Waste Management submitted an emission reduction credit (ERC) application to the Department to certify these emission reductions for use as offsets. The Department evaluated the submittal and determined the emission reductions qualified as surplus, quantifiable, and permanent. The Department further determined that the emission reductions would qualify as federally enforceable if the three transfer station air quality permits associated with the four collection fleets were submitted to the EPA as source-specific SIP revisions and approved into the applicable SIP.

In August 2021, the Department issued Waste Management permits P0008308, P0008309, and P0008316, which included permit conditions to ensure the emission reductions are surplus, permanent, quantifiable and enforceable.² The permits were revised to include a condition that the replaced diesel-fueled trucks be either permanently disabled or permanently removed from the nonattainment area and a condition that CNG trucks can only be replaced in the future with trucks that are certified to a NOX emission limit equivalent to, or less than, that of current CNG trucks. In addition, the permits were revised to include monitoring and recordkeeping requirements to make the reductions enforceable.

² These permits were subsequently renumbered as permits P0011602, P0011603, P0011601, respectively, when corrected copies were submitted on April 3, 2024.

After the Department revised these permits, the Department issued mobile ERC (MERC) Certificates to Waste Management for 33.6 tons/year of emission reduction credits. To ensure the federal enforceability of these emission reductions, the EPA directed the Department to submit the permit conditions related to the emission reduction credits for approval into the Maricopa portion of the Arizona SIP. The Maricopa County Board of Supervisors approved submittal of the Waste Management permit conditions as SIP revisions on July 27, 2022.

B. How is the EPA evaluating the source-specific SIP revision?

In analyzing this source-specific SIP submittal, we reviewed it for compliance with the substantive CAA requirements for SIPs in general as set forth in CAA section 110(a)(2), the permit requirements for nonattainment areas in CAA section 173, and the requirements for offsets in 40 CFR 51.165(a)(3)(ii)(C)(1)(i). We also evaluated the submittal and our action to ensure consistency with the requirements related to SIP revisions in CAA sections 110(l) and 193.

C. Does the source-specific SIP revision meet the evaluation criteria?

The EPA's implementing regulations regarding the requirements that emission reductions must meet to be used as offsets are found at 40 CFR 51.165(a)(3). Generally, offsets are creditable if they are permanent, surplus, quantifiable, and federally enforceable. We refer to this group of requirements as the “offset integrity criteria.” We reviewed the permit conditions in all three permits pertaining to the emission reductions to ensure they met the offset integrity criteria. While the conditions in each permit are numbered differently, they all consist of the same nine conditions, with the only difference being the quantity of ERCs granted in each permit. For convenience, we cite the permit condition numbers of Maricopa County Air Quality Permit P0011602 below.

All of the offset integrity criteria, except for federal enforceability, can be evaluated based on a review of the permit terms and conditions. Federal enforceability is a status of those terms and conditions, determined by who has the authority to enforce the terms and conditions. While terms and conditions issued under SIP-approved New Source Review (NSR) permit programs normally provide federal enforceability, that is not the case for requirements applicable to mobile sources, which are not regulated under NSR. By including these permit conditions as source-specific SIP revisions, the EPA's approval, if finalized, will allow for federal enforceability of the permit terms and conditions. This section will discuss each offset integrity criterion in further detail.

1. Permanent

Emissions reductions used as offsets are required to be permanent, meaning the reductions continue for the life of the stationary source using the emission reductions as offsets. For MERCs, permanence is accomplished by including provisions to require the removal or destruction of the existing higher-emitting vehicles (or their engines) and by preventing the subsequent replacement of the newer lower-emitting vehicles with higher-emitting vehicles. To ensure the permanency of these MERCs, the MCAQD included permit conditions to ensure that the diesel-fueled trucks that were replaced were removed from the nonattainment area. To ensure that the trucks do not operate in the nonattainment area, the MCAQD included a requirement that the location and usage of the replaced trucks be continuously monitored. In addition, the permit requires any future replacements of the new CNG-fueled solid waste collection trucks meet an emissions rate that is the same or lower than the CNG-fueled trucks.

2. Surplus

The permit specifies that the MERC quantity shall exclude emission reductions otherwise required by the CAA. This provision ensures that the emissions reductions that are quantified and credited are surplus to all other requirements of the CAA.

3. Quantifiable Emissions

The permit specifies the calculation methodology and emission factors that were used to quantify the emission reductions. The requirement to use the emission factors and methodology specified in the permit ensures that emission calculations are consistent, accurate, and quantifiable.

4. Federally Enforceable

Emissions reductions are enforceable if the emissions reductions are independently verifiable and enforceable as a practical matter. Each permit provides practical enforceability of the emissions reductions by imposing specific emission limits and monitoring and recordkeeping requirements. In order to be federally enforceable, the specific Waste Management permit conditions are being approved into the Maricopa County portion of the Arizona SIP as source-specific SIP revisions.

Additional information regarding our analysis is provided in the TSD included in the docket for this action.

D. Proposed Action and Public Comment

Pursuant to section 110(k)(3) of the Act, we are proposing approval of the source-specific SIP revisions submitted by ADEQ on behalf of the MCAQD. This proposed approval action is based on our determination that the submittal satisfies the applicable statutory and regulatory provisions governing regulation of offsets under CAA section 173 and 40 CFR 51.165(a)(3)(ii)(C)(1)(i), as explained above. As discussed in our TSD, we also found that the source-specific SIP revisions met the requirements of sections 110(l) and 193 of the Act. If we finalize this action as proposed, our action will be codified through revisions to 40 CFR 52.120 (Identification of Plan).

We will accept comments from the public on this proposal until September 18, 2024.

III. Incorporation by Reference

In this rule, the EPA is proposing to include in a final EPA rule regulatory text that includes incorporation by reference. In accordance with requirements of 1 CFR 51.5, the EPA is proposing to incorporate by reference the three source-specific SIP revisions identified in Section I.A. of this preamble, submitted on April 3, 2024. These source-specific SIP revisions will incorporate specific provisions from permits issued by the MCAQD to ensure certain emission reductions are surplus, permanent, quantifiable, and federally enforceable. The EPA has made, and will continue to make, these materials available through https://www.regulations.gov and in hard copy at the EPA Region IX Office (please contact the person identified in the FOR FURTHER INFORMATION CONTACT section of this preamble for more information).

IV. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it proposes to approve a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The State did not evaluate EJ considerations as part of its SIP submittal; the CAA and applicable implementing regulations neither prohibit nor require such an evaluation. The EPA did not perform an EJ analysis and did not consider EJ in this action. Consideration of EJ is not required as part of this action, and there is no information in the record inconsistent with the stated goal of Executive Order 12898 of achieving EJ for people of color, low-income populations, and Indigenous peoples.

List of Subjects in 40 CFR Part 52

Environmental protection, Administrative practice and procedure, Air pollution control, Incorporation by reference, Intergovernmental relations, Nitrogen dioxide, Ozone, Reporting and recordkeeping requirements, Volatile organic compounds.

Dated: August 12, 2024.
Martha Guzman Aceves,
Regional Administrator, Region IX.

[FR Doc. 2024-18386 Filed 8-16-24; 8:45 am]

BILLING CODE 6560-50-P